DEPARTMENT OF AGRICULTURE

Animal and Plant Health Inspection Service

7 CFR Parts 360 and 361

[Docket No. APHIS-2006-0019]

Noxious Weeds; South African Ragwort and Madagascar Ragwort

AGENCY: Animal and Plant Health Inspection Service, USDA.

ACTION: Interim rule and request for comments.

SUMMARY: We are amending the noxious weed and imported seed regulations by adding South African ragwort (Senecio inaequidens DC.) and Madagascar ragwort (Senecio madagascariensis Poir.) to the list of terrestrial noxious weeds and to the list of seeds with no tolerances applicable to their introduction. This action is necessary to prevent the artificial spread of these noxious weeds into the United States.

DATES: This interim rule is effective June 14, 2006. We will consider all comments that we receive on or before August 21, 2006.

ADDRESSES: You may submit comments by either of the following methods:

• Federal eRulemaking Portal: Go to http://www/regulations.gov and, in the lower “Search Regulations and Federal Actions” box, select “Animal and Plant Health Inspection Service” from the agency drop-down menu, then click on “Submit.” In the Docket ID column, select APHIS-2006-0019 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0019, Regulatory Analysis and Development, PPD, APHIS, Station 3A-03.8, 4700 River Road Unit 118, Riverdale, MD 20737-1238. Please state that your comment refers to Docket No. APHIS-2006-0019.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Alan V. Tasker, Noxious Weeds Program Coordinator, Invasive Species and Pest Management, PPQ, APHIS, 4700 River Road Unit 134, Riverdale, MD 20737-1237; (301) 734-5225.

SUPPLEMENTARY INFORMATION:

Background

The Plant Protection Act (PPA, 7 U.S.C. 7701 et seq.) authorizes the Secretary of Agriculture to prohibit or restrict the importation, entry, exportation, or movement in interstate commerce of any plant, plant product, biological control organism, noxious weed, article, or means of conveyance if the Secretary determines that the prohibition or restriction is necessary to prevent the introduction of a plant pest or noxious weed into the United States or the dissemination of a plant pest or noxious weed within the United States.

The PPA defines “noxious weed” as “any plant or plant product that can directly or indirectly injure or cause damage to crops (including nursery stock or plant products), livestock, poultry or other interests of agriculture, irrigation, navigation, the natural resources of the United States, the public health, or the environment.” The PPA also provides that the Secretary may publish, by regulation, a list of noxious weeds that are prohibited or restricted from entering the United States or that are subject to restrictions on interstate movement within the United States. Under this authority, the Animal and Plant Health Inspection Service (APHIS) administers the noxious weeds regulations in 7 CFR part 360, which prohibit or restrict the importation and interstate movement of those plants that are designated as noxious weeds in § 360.200.

Under the authority of the Federal Seed Act (FSA) of 1939, as amended (7 U.S.C. 1551 et seq.), the U.S. Department of Agriculture regulates the importation and interstate movement of certain agricultural and vegetable seeds and screenings. Title III of the FSA, “Foreign Commerce,” requires shipments of imported agricultural and vegetable seeds to be labeled correctly and to be tested for the presence of the seeds of certain noxious weeds as a condition of entry into the United States. APHIS' regulations implementing the provisions of title III of the FSA are found in 7 CFR part 361. A list of noxious weed seeds is contained in § 361.6. Paragraph (a)(1) of § 361.6 lists species of noxious weed seeds with no tolerances applicable to their introduction into the United States.

APHIS lists in its regulations only those weeds that meet the international definition of a quarantine pests, i.e., “a pest of potential economic importance to the area endangered thereby and not yet present there, or present but not widely distributed and being officially controlled.” This practice is consistent with the International Plant Protection Convention (IPPC), to which the United States is a signatory. Under the IPPC, a country may prohibit or restrict importation of quarantine pests or, in the case of contaminants in plants for planting, regulated nonquarantine pests. This practice is also consistent with sections 414 and 415 of the PPA, which authorize the Secretary to take general remedial measures or to declare an extraordinary emergency if necessary to prevent the introduction or spread of plant pests or noxious weeds that are new to or not known to be prevalent or distributed widely within and throughout the United States.

In this document, we are amending the regulations by adding South African ragwort (Senecio inaequidens DC.) and Madagascar ragwort (Senecio madagascariensis Poir.) to the list in § 360.200(c) of terrestrial noxious weeds and to the list in § 361.6(a)(1) of seeds with no tolerances applicable to their introduction. We are taking this action based on information, discussed below, that strongly suggests that S. inaequidens and S. madagascariensis pose a serious threat to U.S. agriculture and the natural resources of the United States.

This information is also available in the weed risk assessment document, which may be obtained from the person listed under FOR FURTHER INFORMATION CONTACT or viewed on the Regulations.gov Web site (see ADDRESSES above for instructions for accessing Regulations.gov).

S. inaequidens is a perennial plant with narrow leaves and bright yellow flowers that is native to the Transvaal and Natal provinces of South Africa. It also occurs in Botswana, Lesotho, Mozambique, Namibia, and Swaziland, though it is unclear whether it is native to those areas. Because it is considered an invasive species even in its native habitat, it is possible that it has spread to other areas in southern Africa in recent years.

It is estimated that S. inaequidens produces more than 10,000 seeds per plant per year and seeds may remain viable in the soil for months or years. There are numerous pathways of dispersal, including by wind, in soil, in seed, and as a hitchhiker on containers, vehicles, agricultural machinery, agricultural products such as wool and hay, and on animals. S. inaequidens was accidentally introduced to Europe with imports of wool as early as 1889. It now occupies a wide range of habitats within Europe, including along roads, railways, riverbanks, forest clearings, croplands, mountain slopes, vineyards, grasslands, wetlands, tree plantations, pastures, and areas disturbed by fire. S. inaequidens is also present in Mexico. It is highly adaptable and able to withstand hot, dry summers and overwinter in areas where temperatures reach −15 °C (5 °F).

Like S. inaequidens, S. madagascariensis is an invasive perennial plant native to South Africa with yellow flowers and a highly branched stem. In addition, it may also be capable of producing over 10,000 seeds per plant per year, which are easily dispersed by the wind or may hitchhike on other surfaces and objects. These seeds may remain viable in the soil for up to 10 years. Recent studies suggest S. inaequidens and S. madagascariensis may represent one species; however, a formal taxonomic study has not been conducted to resolve this issue. Therefore, we have evaluated the two taxa as separate, but similar species.

S. madagascariensis now occupies parts of Argentina, Hawaii, Japan, and many coastal regions in Australia. The earliest record of S. madagascariensis in Australia is in 1918, when it was probably introduced in ballast. In the 1980s it was introduced to the island of Hawaii, where it is considered a State noxious weed and is under official control. Since its introduction, it has spread to the islands of Kauai, Maui, Oahu, and Kahoolawe, invading pastures, yards, roadsides, natural areas, abandoned fields, and newly developed lots from sea level to as high as 7,000 feet in elevation.

Both S. inaequidens and S. madagascariensis produce toxic alkaloids. Although livestock may not typically eat S. inaequidens or S. madagascariensis due to their bitter taste, young plants growing intermixed with other pasture species may be inadvertently ingested. S. madagascariensis has been shown to retard the growth and development of cattle if eaten, and in some acute cases, can cause livestock mortality. In Africa, S. inaequidens alkaloids have been found in milk and bread and may have resulted in some lethal poisoning of humans. If either species were to become established in the United States, the United States may experience a loss in domestic and foreign grain, cattle, hay, and dairy markets due to toxic alkaloid contamination.

Because it forms dense populations of 5 to 15 plants per square meter (approximately 11 square feet), S. inaequidens can exert competitive pressure on native species, primarily through shading. Evidence suggests that it outcompetes some herbs. Therefore, it may have a negative impact on biodiversity, although this has not yet been tested.

The United States contains dozens of native species of Senecio, two of which are federally listed as threatened. These native species live in a variety of habitats, including those favorable to the establishment of S. inaequidens and S. madagascariensis. If S. inaequidens or S. madagascariensis become established in the United States, they would likely invade these habitats, threatening the existence of those species through competition or indirectly through hybridization. Many species of Senecio freely interbreed if they come in contact with each other.

Although mechanical and chemical control measures are available, they may not be easy to apply due to the often inaccessible habitats S. inaequidens and S. madagascariensis can occupy. In addition, such control measures are likely to be costly. In 1995, it is estimated that S. madagascariensis cost the Australian dairy industry AU $10 million per year in control and production costs.

The United States imports many commodities, such as uncleaned wool, on which seeds of S. inaequidens or S. madagascariensis could hitch-hike from countries in which these species are known to exist. It is highly likely that some contaminated shipments have already entered the United States given that the infestations of S. madagascariensis in Hawaii resulted from contaminated hydromulch that traveled through the Los Angeles ports from Australia. APHIS has not kept records of any interception of these species because neither species is listed as a Federal noxious weed. This is a concern for the agency because APHIS has no way of knowing how many shipments contaminated with S inaequidens or S. madagascariensis may have already entered the United States. Once the species do enter the United States, it is not clear how quickly they can acclimate to their new environment. If either S. inaequidens or S. madagascariensis were introduced into the United States in the near future, it could take a few years before the plants begin to spread far enough to be detected at which point the invasive species will already be established.

In addition, as S. madagascariensis is capable of interbreeding with S. inaequidens and some studies suggest that they may represent the same species, we have determined that S. madagascariensis poses as high of a risk of introduction into the United States as S. inaequidens. The introduction and establishment of S. inaequidens or S. madagascariensis in the United States could lead to adverse impacts, such as reduced crop and livestock yield, lower commodity values, loss of foreign markets due to the presence of a quarantine pest, and costly chemical control programs. Therefore, we have determined that it is necessary, on an emergency basis, to amend the regulations in §§ 360.200 and 361.6 to list S. inaequidens and S. madagascariensis as noxious weeds in order to help prevent their artificial spread into the United States.

Emergency Action

This rulemaking is necessary on an emergency basis to prevent the introduction of S. inaequidens and S. madagascariensis into the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

We are amending the noxious weed and imported seed regulations by adding S. inaequidens (South African ragwort) and S. madagascariensis (Madagascar ragwort) to the list of terrestrial noxious weeds and to the list of seeds with no tolerances applicable to their introduction. This action which is necessary to prevent the artificial spread of these noxious weeds into the United States, is expected to have only minor, if any, economic effects on U.S. entities.

Neither South African ragwort nor Madagascar ragwort is used for ornamental, medicinal, or other purposes. As such, the introduction of either weed would provide no benefit to U.S. agriculture or other industries. The European and Mediterranean Plant Protection Organization has identified wool and wildflower seed mixes as potential pathways for the dissemination of Senecio spp. seeds. This interim rule, therefore, may result in additional costs for importers whose shipments of wildflower mixes are seized or whose wool shipments must be decontaminated due to contamination with S. inaequidens or S. madagascariensis seeds.

Importers of wool and wildflowers are classified as part of the wholesale trade sector in the North American Industry Classification System (NAICS). The wholesale trade sector is an integral part in the process of trading because it is an intermediate step in the distribution of merchandise. Both merchant wholesalers and import/export agents or brokers are classified in this sector.

The size distribution of merchant wholesalers that may be affected by the rule is unknown. However, it is reasonable to assume that most are small in size according to the U.S. Small Business Administration's standards. The small business size standard for entities classified under NAICS code 424590 (Other Farm Product Raw Material Merchant Wholesalers) is 100 or fewer employees. There are 43 raw wool wholesale trading establishments in the United States, for which trade of wool, wool tops, and mohair account for 73.3 percent of their total sales. Although no clear data exist to verify that these firms are small entities, the total average number of employees per establishment of other farm product raw material merchant wholesalers in 2002 was seven employees per firm. In 2004, the United States imported approximately 22.7 million pounds of wool, primarily from New Zealand and Australia. Madagascar ragwort is prevalent in Australia, where it has led to higher costs of production in the dairy, beef, and horse production sectors. Although the United States is a net importer of wool, imports declined by 10 percent in 2005, while exports increased by 17 percent, suggesting that domestic demand for wool has decreased from previous years.

The small business size standard for entities classified under NAICS code 424930 (Flower, Nursery Stock, and Florists' Supplies Merchant Wholesalers) is 100 or fewer employees. There are 4,816 flower, nursery stock, and florists' supplies wholesale trading establishments in the United States for which trade of flowers, nursery stock, and florists' supplies accounts for 100 percent of total sales. As with wool, no clear data exist to verify that these firms are small entities; however, the total average number of employees per establishment in this classification in 2002 was 12 employees per firm. In 2004, the United States imported approximately $700 million in fresh cut flowers and flower buds. The primary exporters of fresh cut flowers and flower buds to the United States were Colombia and Ecuador, while Mexico supplied approximately 4 percent of the United States' imports. The United States is a net importer of fresh cut flowers and flower buds. Imports increased by 16.4 percent in 2004, while exports declined by 19 percent.

While it is anticipated that the cost to some importers of wool and wildflowers may increase as a result of this interim rule, additional costs would be incurred if a shipment was found to be contaminated with South African ragwort or Madagascar ragwort. In the extreme, a shipment may have to be reexported or destroyed due to the presence of South African ragwort or Madagascar ragwort. The benefits of preventing the introduction and spread of either weed in the United States, however, are expected to outweigh any additional costs to importers. Furthermore, protecting against the introduction into and artificial spread within the United States of South African ragwort and Madagascar ragwort will positively affect small entities in the livestock, field crop, and nursery industries by preventing the need for costly chemical or other controls.

Under these circumstances, the Administrator of the Animal and Plant Health Inspection Service has determined that this action will not have a significant economic impact on a substantial number of small entities.

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects

7 CFR Part 360

Imports, Plants (Agriculture), Quarantine, Reporting and recordkeeping requirements, Transportation, Weeds.

7 CFR Part 361

Agricultural commodities, Imports, Labeling, Quarantine, Reporting and recordkeeping requirements, Seeds, Vegetables, Weeds.

Accordingly, we are amending 7 CFR parts 360 and 361 as follows:

PART 360—NOXIOUS WEED REGULATIONS

1. The authority citation for part 360 continues to read as follows:

Authority: 7 U.S.C. 7701-7772 and 7781-7786; 7 CFR 2.22, 2.80, and 371.3.

§ 360.200 [Amended]

2. In § 360.200, paragraph (c) is amended by adding, in alphabetical order, entries for “Senecio inaequidens DC. (South African ragwort)” and “Senecio madagascariensis Poir. (Madagascar ragwort)”.

PART 361—IMPORTATION OF SEED AND SCREENINGS UNDER THE FEDERAL SEED ACT

3. The authority citation for part 361 continues to read as follows:

Authority: 7 U.S.C. 1581-1610; 7 CFR 2.22, 2.80, and 371.3.

§ 361.6 [Amended]

4. In § 361.6, paragraph (a)(1) is amended by adding, in alphabetical order, entries for “Senecio inaequidens DC.” and “Senecio madagascariensis Poir.”

Done in Washington, DC, this 14th day of June 2006.
Kevin Shea,
Acting Administrator, Animal and Plant Health Inspection Service.

[FR Doc. E6-9665 Filed 6-19-06; 8:45 am]

BILLING CODE 3410-34-P